DEPARTMENT OF ENERGY

Federal Energy Regulatory Commission

Combined Notice of Filings #2

Take notice that the Commission received the following electric rate filings:

Docket Numbers: ER25-2378-000.

Applicants: PJM Interconnection, LLC.

Description: 205(d) Rate Filing: Original NSA, Service Agreement No. 7673; AF1-147 to be effective 7/30/2025.

Filed Date: 5/30/25.

Accession Number: 20250530-5242.

Comment Date: 5 p.m. ET 6/20/25.

Docket Numbers: ER25-2379-000.

Applicants: Public Service Company of Colorado.

Description: 205(d) Rate Filing: 2025-05-30 PSC-WAPA—TSGT—Intercon, Entitle, O&M Agrmt-367-0.1.0 to be effective 5/31/2025.

Filed Date: 5/30/25.

Accession Number: 20250530-5246.

Comment Date: 5 p.m. ET 6/20/25.

Docket Numbers: ER25-2380-000.

Applicants: Pacific Gas and Electric Company.

Description: 205(d) Rate Filing: TO SA 59: May 2025 WAPA Interconnection Agreement Biannual Filing to be effective 8/1/2025.

Filed Date: 5/30/25.

Accession Number: 20250530-5250.

Comment Date: 5 p.m. ET 6/20/25.

Docket Numbers: ER25-2381-000.

Applicants: Pacific Gas and Electric Company.

Description: 205(d) Rate Filing: WDT SA 17: May 2025 WAPA Service Agreement Biannual Filing to be effective 8/1/2025.

Filed Date: 5/30/25.

Accession Number: 20250530-5252.

Comment Date: 5 p.m. ET 6/20/25.

Docket Numbers: ER25-2382-000.

Applicants: New York Independent System Operator, Inc.

Description: 205(d) Rate Filing: NYISO 205: Proposed Revisions to Enhance Duct-Firing Modeling to be effective 12/31/9998.

Filed Date: 5/30/25.

Accession Number: 20250530-5256.

Comment Date: 5 p.m. ET 6/20/25.

Docket Numbers: ER25-2383-000.

Applicants: Public Service Company of New Mexico.

Description: 205(d) Rate Filing: Modifications P0695 to be effective 5/1/2025.

Filed Date: 5/30/25.

Accession Number: 20250530-5257.

Comment Date: 5 p.m. ET 6/20/25.

Docket Numbers: ER25-2384-000.

Applicants: California Independent System Operator Corporation.

Description: 205(d) Rate Filing: 2025-05-30 CAISO & Salt River Project—New ABAOA and Terminated ICAOA to be effective 8/1/2025.

Filed Date: 5/30/25.

Accession Number: 20250530-5296.

Comment Date: 5 p.m. ET 6/20/25.

Docket Numbers: ER25-2385-000.

Applicants: Duke Energy Progress, LLC, Duke Energy Carolinas, LLC.

Description: 205(d) Rate Filing: Duke Energy Carolinas, LLC submits tariff filing per 35.13(a)(2)(iii: DEC-DEP Revisions to Joint Open Access Transmission Tariff to be effective 12/31/9998.

Filed Date: 5/30/25.

Accession Number: 20250530-5298.

Comment Date: 5 p.m. ET 6/20/25.

Docket Numbers: ER25-2386-000.

Applicants: Arche Energy Project Tenant, LLC.

Description: Initial Rate Filing: Petition for Blanket MBR Authorization w/Waivers & Expedited Treatment to be effective 5/31/2025.

Filed Date: 5/30/25.

Accession Number: 20250530-5300.

Comment Date: 5 p.m. ET 6/20/25.

Docket Numbers: ER25-2387-000.

Applicants: California Independent System Operator Corporation.

Description: 205(d) Rate Filing: 2025-05-30 CAISO & Salt River Project—Dynamic Transfer BA Operating Agrmt to be effective 8/1/2025.

Filed Date: 5/30/25.

Accession Number: 20250530-5309.

Comment Date: 5 p.m. ET 6/20/25.

Docket Numbers: ER25-2388-000.

Applicants: Consolidated Edison Company of New York, Inc.

Description: 205(d) Rate Filing: 96 PASNY Multiple Savings Rates to be effective 6/1/2025.

Filed Date: 5/30/25.

Accession Number: 20250530-5345.

Comment Date: 5 p.m. ET 6/20/25.

Docket Numbers: ER25-2389-000.

Applicants: Alabama Power Company, Georgia Power Company, Mississippi Power Company.

Description: Compliance filing: Alabama Power Company submits tariff filing per 35: OATT Attachment O Order No. 676-K Compliance Filing to be effective 2/27/2026.

Filed Date: 5/30/25.

Accession Number: 20250530-5367.

Comment Date: 5 p.m. ET 6/20/25.

Docket Numbers: ER25-2390-000.

Applicants: Entergy Arkansas, LLC.

Description: 205(d) Rate Filing: Updated AECC LBA Agreement to be effective 6/1/2025.

Filed Date: 5/30/25.

Accession Number: 20250530-5368.

Comment Date: 5 p.m. ET 6/20/25.

Docket Numbers: ER25-2391-000.

Applicants: Midcontinent Independent System Operator, Inc., GridLiance Heartland LLC, GridLiance High Plains LLC.

Description: 205(d) Rate Filing: GridLiance High Plains LLC submits tariff filing per 35.13(a)(2)(iii: 2025-05-30_GridLiance Heartland Request for Transmission Rate Incentives to be effective 7/30/2025.

Filed Date: 5/30/25.

Accession Number: 20250530-5374.

Comment Date: 5 p.m. ET 6/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 30, 2025.
Carlos D. Clay,
Deputy Secretary.

[FR Doc. 2025-10213 Filed 6-4-25; 8:45 am]

BILLING CODE 6717-01-P